DEPARTMENT OF THE INTERIOR

Bureau of Land Management

[AK-931-1310-DP-NPRA]

Northwest National Petroleum Reserve-Alaska Draft Integrated Activity Plan/Environmental Impact Statement

AGENCY: Bureau of Land Management, Interior.

ACTION: Notice of extension of comment period.

SUMMARY: The Bureau of Land Management announces a 15-day extension of the public comment period for the Northwest National Petroleum Reserve-Alaska Draft Integrated Activity Plan/Environmental Impact Statement (IAP/EIS).

DATE: Written comments must be submitted or postmarked no later than April 2, 2003.

ADDRESSES: Comments on the document should be addressed to: NPR-A Planning Team, Bureau of Land Management, Alaska State Office (930), 222 West 7th Avenue, Anchorage, Alaska 99513-7599. Comments can also be submitted at the project Web site at http://www.ak.blm.gov/nwnpra or sent via e-mail to nwnpr-acomment@ak.blm.gov.

FOR FURTHER INFORMATION CONTACT: Curtis Wilson (907-271-5546; CurtisWilson@ak.blm.gov) or Mike Kleven (907-474-2317; MikeKleven@ak.blm.gov). They can be reached by mail at the Bureau of Land Management (930), Alaska State Office, 222 West 7th Avenue, Anchorage, Alaska 99513-7599.

SUPPLEMENTARY INFORMATION: The Bureau of Land Management published a Notice of Availability for the IAP/EIS on January 17, 2003. That notice indicates that the public comment period for the document ends March 18, 2003. The Bureau of Land Management received requests from the public that the comment period be extended. This extension to April 2, 2003, responds to those requests.

Dated: March 11, 2003.
Don Hinrichsen,
Acting State Director.

[FR Doc. 03-6587 Filed 3-14-03; 2:27 pm]

BILLING CODE 4310-JA-P